DEPARTMENT OF DEFENSE

Office of the Secretary

Vietnam War Commemoration Advisory Committee; Notice of Federal Advisory Committee Meeting

AGENCY: Chief Management Officer, Vietnam War Commemoration Advisory Committee, Department of Defense.

ACTION: Notice of federal advisory committee meeting.

SUMMARY: The Department of Defense (DoD) is publishing this notice to announce that the following Federal Advisory Committee meeting of the Vietnam War Commemoration Advisory Committee will take place.

DATES: Open to the public Thursday, September 20th, 2018 from 1:00 p.m. to 4:00 p.m.

ADDRESSES: The address of the open meeting is 241 18th Street South, Room 101, Arlington VA 22202.

FOR FURTHER INFORMATION CONTACT: Mrs. Marcia L. Moore, 703-571-2005 (Voice), 703-692-4691 (Facsimile), marcia.l.moore12.civ@mail.mil (Email). Mailing address is DOD Vietnam War Commemoration Program Office, 241 18th Street South, Suite 101, Arlington, VA 22202. Website: http://www.vietnamwar50th.com. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Pursuant to 5 U.S.C. 552b and 41 CFR 102-3.140 through 102-3.165, and the availability of space, this meeting is open to the public. All members of the public who wish to attend the public meeting must contact Mrs. Marcia Moore or Mr. Mark Franklin at the number listed in the FOR FURTHER INFORMATION CONTACT section by September 13, 2018.

Purpose of the Meeting: The Department of Defense is publishing this notice to announce the following Federal advisory committee meeting of the Vietnam War Commemoration Advisory Committee. This meeting is open to the public. The Committee is asked to provide advice on the concept and design of the types of commemoration events the Vietnam War Commemoration Office (VWC) should consider supporting or coordinating during the close-out phase from 2023 through 2025. The objective of this task is to set the conditions for the closing of the Commemoration on Veterans Day 2025 at Arlington Cemetery by the President of the United States or his/her representative.

Agenda: The Committee will convene at 1:00 p.m. to 4:00 p.m. on September 20, 2018 and will discuss the Committee's advice on the concept and design of the types of commemoration events the Vietnam War Commemoration Office (VWC) should consider supporting or coordinating during the close-out phase from 2023 through 2025.

Meeting Accessibility: Special Accommodations: Individuals requiring special accommodations to access the public meeting should contact Mrs. Marcia Moore or Mr. Mark Franklin at the number listed in the FOR FURTHER INFORMATION CONTACT section by September 13, 2018 so that appropriate arrangements can be made.

Written Statements: Pursuant to 41 CFR 102-3.105(j) and 102-3.140, and section 10(a)(3) of the Federal Advisory Committee Act of 1972, the public or interested organizations may submit written comments to the Committee about its mission and topics pertaining to this public meeting. Written comments should be received by the DFO by September 13, 2018. Written comments should be submitted via email to the address for the DFO given in the FOR FURTHER INFORMATION CONTACT section in either Adobe Acrobat or Microsoft Word format. Please note that since the Committee operates under the provisions of the Federal Advisory Committee Act, as amended, all submitted comments and public presentations will be treated as public documents and will be made available for public inspection, including, but not limited to, being posted on the Committee's website.

Dated: August 16, 2018.
Shelly E. Finke,
Alternate OSD Federal Register, Liaison Officer, Department of Defense.

[FR Doc. 2018-17963 Filed 8-20-18; 8:45 am]

BILLING CODE 5001-06-P